OFFICE OF PERSONNEL MANAGEMENT

Notice of Federal Long Term Care Insurance Program Special Decision Period for Current Enrollees

AGENCY: U.S. Office of Personnel Management.

ACTION: Notice of Federal Long Term Care Insurance Program special decision period for current enrollees.

SUMMARY: The U.S. Office of Personnel Management (OPM) is announcing rules for current enrollees in the Federal Long Term Care Insurance Program (FLTCIP) who will be eligible to change coverage during a limited Special Decision Period to be held this year. These rules pertain only to current eligible enrollees who may make changes because of new plan features and premium rate increases for some enrollees. Eligible enrollees in the standard plan as of October 1, 2009, and those individuals whose application for the standard plan was received on or before September 30, 2009, and whose enrollment was approved may make changes during the Special Decision Period, provided they are not in benefit eligible status.

DATES: The Special Decision Period will be from October 1 through December 14, 2009.

FOR FURTHER INFORMATION CONTACT: Enrollees may call 1-800-LTC-FEDS (1-800-582-3337) (TTY: 1-800-843-3557) or visit http://www.ltcfeds.com. For purposes of this Federal Register notice only, the contact at OPM is John Cutler, Senior Policy Analyst, Strategic Human Resources Policy Division, at john.cutler@opm.gov or (202) 606-0735.

SUPPLEMENTARY INFORMATION: The Long-Term Care Security Act (Pub. L. 106-265) directs OPM to provide periodic opportunities for eligible persons to apply for coverage in the FLTCIP. OPM has issued regulations (5 CFR 875.402-875.404) which set forth procedures for FLTCIP open seasons. This notice is issued under the provisions of § 875.402(b). The Special Decision Period described in this Notice is solely for current enrollees to make coverage changes. Eligible enrollees will be notified directly about the Special Decision Period by Long Term Care Partners, the program administrator.

Enrollees who have plan options subject to a rate increase beginning in January 2010 will be offered a specified “landing spot” to allow them to reduce their coverage in order to keep their premium approximately the same amount as it is today. Eligible enrollees will also be given an opportunity to change to the new FLTCIP plan design which offers some features different than those currently available. Enrollees who make coverage changes outside of this Special Decision Period may be subject to full underwriting, as specified in § 875.403, and different premium calculation rules.

Qualified enrollees under these special rules: Persons enrolled in the FLTCIP standard plan as of October 1, 2009, and those individuals whose application for the standard plan was received on or before September 30, 2009, and whose enrollment was approved are eligible to make changes during the Special Decision Period, provided they are not in benefit eligible status.

Underwriting requirements: Eligible enrollees who wish to reduce their coverage or keep their current coverage (subject to any applicable rate increases) will be able to do so without underwriting. They may also change to the specified “landing spot” without underwriting. No enrollee's coverage will change unless he or she voluntarily chooses to change it. Other coverage changes may require underwriting.

If underwriting is required, eligible enrollees who are active workforce members or spouses of active workforce members will be subject to the abbreviated underwriting standards in effect for the FLTCIP as of October 1, 2009. In accordance with § 875.404(b)(2), active workforce members who seek to make changes that require underwriting must be actively at work in order for coverage changes to become effective. For decision period changes with a January 1, 2010, effective date, actively at work requirements are modified. For a coverage change to become effective January 1, 2010, the active workforce member must be actively at work one day during the month of December 2009. If underwriting is required for any other eligible enrollees, they will be subject to the full underwriting standards in effect for the FLTCIP as of October 1, 2009.

Billing age: For enrollees who retain their current benefits, premiums are based on the enrollee's age at purchase. For enrollees who choose to change their benefits, premiums will be determined on a blended rate basis, taking into account the enrollee's age at purchase and the enrollee's attained age as of January 1, 2010.

Premiums: Certain current enrollees in the FLTCIP will experience a premium increase, effective January 1, 2010. The premium increase affects current enrollees who applied to the FLTCIP on or before September 30, 2009, who have the Automatic Compound Inflation Option (ACIO) and whose age at purchase was under 70. Enrollees affected by the premium increase will receive detailed written information about the specific amount of the increase from Long Term Care Partners. Long Term Care Partners will also provide information on how enrollees may reduce their benefits in order to avoid the premium increase and keep their new premium approximately the same as their current premium. All eligible enrollees will also be given an opportunity to change to the new FLTCIP plan design. Premiums for coverage changes will vary according to the enrollee's age and the coverage options selected.

Effective date: The effective date of coverage changes that do not require underwriting will be January 1, 2010, regardless of when the Special Decision Period request is received. Coverage changes requiring underwriting will be effective January 1, 2010, or the first day of the month following approval of the request, whichever is later.

Enrollees who make coverage changes under these provisions will receive a revised Benefit Booklet and Schedule of Benefits. Enrollees will have 30 days after the date these items are mailed to cancel their Special Decision Period coverage changes and revert to their original coverage or to make another Special Decision Period choice. Enrollees will receive a refund of any difference in premiums paid for a coverage change that is cancelled within those 30 days. If enrollees cancel the coverage change after 30 days, they will not receive a refund of any difference in premiums paid for the changed coverage, unless those premiums are for a period after the effective date of the cancellation.

OPM expects to hold a FLTCIP Open Season for all individuals eligible to apply in late 2010. We will issue a separate Notice in the Federal Register describing the procedures for that Open Season at a later time.

Authority: 5 U.S.C. 9008; 5 CFR 875.402.

U.S. Office of Personnel Management.
John Berry,
Director.

[FR Doc. E9-23727 Filed 9-30-09; 8:45 am]

BILLING CODE 6325-39-P